DEPARTMENT OF ENERGY

Federal Energy Regulatory Commission

Combined Notice of Filings #1

Take notice that the Commission received the following electric corporate filings:

Docket Numbers: EC11-50-000.

Applicants: HL Power Company, LP.

Description: CMS Energy Corporation submits Application for Authorization under section 203 of the Federal Power Act and Requests for Waivers under EC11-50.

Filed Date: 03/15/2011.

Accession Number: 20110315-0203.

Comment Date: 5 p.m. Eastern Time on Tuesday, April 5, 2011.

Take notice that the Commission received the following electric rate filings:

Docket Numbers: ER10-1786-001.

Applicants: Credit Suisse Energy, LLC.

Description: Credit Suisse Securities (USA) LLC's Notice of Non-Material Change in Status.

Filed Date: 03/15/2011.

Accession Number: 20110315-5181.

Comment Date: 5 p.m. Eastern Time on Tuesday, April 5, 2011.

Docket Numbers: ER11-136-002.

Applicants: Michigan Electric Transmission Co., LLC.

Description: Refund Report of Michigan Electric Transmission Company, LLC.

Filed Date: 03/15/2011.

Accession Number: 20110315-5165.

Comment Date: 5 p.m. Eastern Time on Tuesday, April 5, 2011.

Docket Numbers: ER11-2295-001.

Applicants: California Independent System Operator Corporation.

Description: California Independent System Operator Corporation submits tariff filing per 35: 2011-03-15 CAISO's Transmission Control Agreement Compliance Filing to be effective 11/23/2010.

Filed Date: 03/15/2011.

Accession Number: 20110315-5079.

Comment Date: 5 p.m. Eastern Time on Tuesday, April 5, 2011.

Docket Numbers: ER11-2424-003.

Applicants: Pinetree Power-Tamworth, Inc.

Description: Pinetree Power-Tamworth, Inc. submits tariff filing per 35.17(b): Pinetree Power—Tamworth, Inc.—Third Supplement to Filing of Initial Tariff to be effective 1/1/2011.

Filed Date: 03/15/2011.

Accession Number: 20110315-5137.

Comment Date: 5 p.m. Eastern Time on Tuesday, April 5, 2011.

Docket Numbers: ER11-3075-000.

Applicants: CR Clearing, LLC.

Description: CR Clearing, LLC submits tariff filing per 35.37: Corrected Tariff in Conjunction with Triennial Market Power to be effective 3/16/2011.

Filed Date: 03/15/2011.

Accession Number: 20110315-5000.

Comment Date: 5 p.m. Eastern Time on Tuesday, April 5, 2011.

Docket Numbers: ER11-3076-000.

Applicants: Avista Turbine Power, Inc.

Description: Avista Turbine Power, Inc. submits tariff filing per 35.15: Cancellation of MBR Tariff to be effective 3/15/2011.

Filed Date: 03/15/2011.

Accession Number: 20110315-5001.

Comment Date: 5 p.m. Eastern Time on Tuesday, April 5, 2011.

Docket Numbers: ER11-3077-000.

Applicants: Cow Branch Wind Power, LLC.

Description: Cow Branch Wind Power, LLC submits tariff filing per 35.37: Corrected Tariff in Conjunction with Triennial Market Power Upate to be effective 3/16/2011.

Filed Date: 03/15/2011.

Accession Number: 20110315-5002.

Comment Date: 5 p.m. Eastern Time on Tuesday, April 5, 2011.

Docket Numbers: ER11-3078-000.

Applicants: Harvest Windfarm, LLC.

Description: Harvest Windfarm, LLC submits tariff filing per 35.37: Corrected Tariff in Conjunction with Triennial Market Power Update to be effective 3/16/2011.

Filed Date: 03/15/2011.

Accession Number: 20110315-5003.

Comment Date: 5 p.m. Eastern Time on Tuesday, April 5, 2011.

Docket Numbers: ER11-3079-000.

Applicants: Exelon Wind 4, LLC.

Description: Exelon Wind 4, LLC submits tariff filing per 35.37: Corrected Tariff in Conjunction with Triennial Market Power Update to be effective 3/16/2011.

Filed Date: 03/15/2011.

Accession Number: 20110315-5004.

Comment Date: 5 p.m. Eastern Time on Tuesday, April 5, 2011.

Docket Numbers: ER11-3080-000.

Applicants: Wind Capital Holdings, LLC.

Description: Wind Capital Holdings, LLC submits tariff filing per 35.37: Corrected Tariff in Conjunction with Triennial Market Power Update to be effective 3/16/2011.

Filed Date: 03/15/2011.

Accession Number: 20110315-5005.

Comment Date: 5 p.m. Eastern Time on Tuesday, April 5, 2011.

Docket Numbers: ER11-3082-000.

Applicants: South Carolina Electric & Gas Company.

Description: South Carolina Electric & Gas Company submits tariff filing per 35.13(a)(2)(iii): Attachment K Clean Up to be effective 3/15/2011.

Filed Date: 03/15/2011.

Accession Number: 20110315-5033.

Comment Date: 5 p.m. Eastern Time on Tuesday, April 5, 2011.

Docket Numbers: ER11-3083-000.

Applicants: PJM Interconnection, L.L.C.

Description: PJM Interconnection, L.L.C. submits tariff filing per 35.13(a)(2)(iii): Queue No. V4-072 WMPA Original Service Agreement No. 2788 to be effective 2/14/2011.

Filed Date: 03/15/2011.

Accession Number: 20110315-5060.

Comment Date: 5 p.m. Eastern Time on Tuesday, April 5, 2011.

Docket Numbers: ER11-3084-000.

Applicants: The Detroit Edison Company.

Description: The Detroit Edison Company submits tariff filing per 35: MBR Compliance Filing to be effective 3/2/2011.

Filed Date: 03/15/2011.

Accession Number: 20110315-5071.

Comment Date: 5 p.m. Eastern Time on Tuesday, April 5, 2011.

Docket Numbers: ER11-3085-000.

Applicants: PJM Interconnection, L.L.C.

Description: PJM Interconnection, L.L.C. submits tariff filing per 35.13(a)(2)(iii): Revisions to the PJM Tariff regarding Deferred Security to be effective 5/16/2011.

Filed Date: 03/15/2011.

Accession Number: 20110315-5080.

Comment Date: 5 p.m. Eastern Time on Tuesday, April 5, 2011.

Docket Numbers: ER11-3086-000.

Applicants: DC Energy California, LLC.

Description: DC Energy California, LLC submits tariff filing per 35.1: DC Energy California, LLC—Baseline Filing to be effective 3/15/2011.

Filed Date: 03/15/2011.

Accession Number: 20110315-5081.

Comment Date: 5 p.m. Eastern Time on Tuesday, April 5, 2011.

Docket Numbers: ER11-3087-000.

Applicants: DC Energy Dakota, LLC.

Description: DC Energy Dakota, LLC submits tariff filing per 35.1: DC Energy Dakota, LLC—Baseline Filing to be effective 3/15/2011.

Filed Date: 03/15/2011.

Accession Number: 20110315-5082.

Comment Date: 5 p.m. Eastern Time on Tuesday, April 5, 2011.

Docket Numbers: ER11-3088-000.

Applicants: DC Energy Mid-Atlantic, LLC.

Description: DC Energy Mid-Atlantic, LLC submits tariff filing per 35.1: DC Energy Mid-Atlantic, LLC—Baseline Filing to be effective 3/15/2011.

Filed Date: 03/15/2011.

Accession Number: 20110315-5083.

Comment Date: 5 p.m. Eastern Time on Tuesday, April 5, 2011.

Docket Numbers: ER11-3089-000.

Applicants: DC Energy Midwest, LLC.

Description: DC Energy Midwest, LLC submits tariff filing per 35.1: DC Energy Midwest, LLC—Baseline Filing to be effective 3/15/2011.

Filed Date: 03/15/2011.

Accession Number: 20110315-5084.

Comment Date: 5 p.m. Eastern Time on Tuesday, April 5, 2011.

Docket Numbers: ER11-3090-000.

Applicants: DC Energy New England, LLC.

Description: DC Energy New England, LLC submits tariff filing per 35.1: DC Energy New England, LLC—Baseline Filing to be effective 3/15/2011.

Filed Date: 03/15/2011.

Accession Number: 20110315-5086.

Comment Date: 5 p.m. Eastern Time on Tuesday, April 5, 2011.

Docket Numbers: ER11-3091-000.

Applicants: DC Energy New York, LLC.

Description: DC Energy New York, LLC submits tariff filing per 35.1: DC Energy New York, LLC—Baseline Filing to be effective 3/15/2011.

Filed Date: 03/15/2011.

Accession Number: 20110315-5091.

Comment Date: 5 p.m. Eastern Time on Tuesday, April 5, 2011.

Docket Numbers: ER11-3092-000.

Applicants: DC Energy Southwest, LLC.

Description: DC Energy Southwest, LLC submits tariff filing per 35.1: DC Energy Southwest, LLC—Baseline Filing to be effective 3/15/2011.

Filed Date: 03/15/2011.

Accession Number: 20110315-5094.

Comment Date: 5 p.m. Eastern Time on Tuesday, April 5, 2011.

Docket Numbers: ER11-3093-000.

Applicants: DC Energy Texas, LLC.

Description: DC Energy Texas, LLC submits tariff filing per 35.1: DC Energy Texas, LLC to be effective 3/15/2011.

Filed Date: 03/15/2011.

Accession Number: 20110315-5095.

Comment Date: 5 p.m. Eastern Time on Tuesday, April 5, 2011.

Docket Numbers: ER11-3094-000.

Applicants: DC Energy, LLC.

Description: DC Energy, LLC submits tariff filing per 35.1: DC Energy, LLC—Baseline Filing to be effective 3/15/2011.

Filed Date: 03/15/2011.

Accession Number: 20110315-5096.

Comment Date: 5 p.m. Eastern Time on Tuesday, April 5, 2011.

Docket Numbers: ER11-3095-000.

Applicants: Deseret Generation & Transmission Co-operator, Inc.

Description: Deseret Generation & Transmission Co-operative, Inc. submits tariff filing per 35.13(a)(2)(iii): section 205 Tariff Filing 3-15-2011 to be effective 4/1/2011.

Filed Date: 03/15/2011.

Accession Number: 20110315-5097.

Comment Date: 5 p.m. Eastern Time on Tuesday, April 5, 2011.

Docket Numbers: ER11-3096-000.

Applicants: California Independent System Operator Corporation.

Description: California Independent System Operator Corporation submits tariff filing per 35: 2011-03-15 CAISO's Filing in Compliance with Order 676-E to be effective 4/1/2011.

Filed Date: 03/15/2011.

Accession Number: 20110315-5101.

Comment Date: 5 p.m. Eastern Time on Tuesday, April 5, 2011.

Docket Numbers: ER11-3097-000.

Applicants: DTE Energy Trading, Inc.

Description: DTE Energy Trading, Inc. submits tariff filing per 35: MBR Compliance Filing to be effective 3/2/2011.

Filed Date: 03/15/2011.

Accession Number: 20110315-5108.

Comment Date: 5 p.m. Eastern Time on Tuesday, April 5, 2011.

Docket Numbers: ER11-3098-000.

Applicants: Viridian Energy PA, LLC.

Description: Viridian Energy PA, LLC submits tariff filing per 35.12: Viridian Energy PA LLC Market Based Rate Tariff to be effective 3/15/2011.

Filed Date: 03/15/2011.

Accession Number: 20110315-5128.

Comment Date: 5 p.m. Eastern Time on Tuesday, April 5, 2011.

Docket Numbers: ER11-3099-000.

Applicants: California Independent System Operator Corporation.

Description: Petition for Waiver of OASIS Requirements of the California Independent System Operator Corporation.

Filed Date: 03/15/2011.

Accession Number: 20110315-5175.

Comment Date: 5 p.m. Eastern Time on Tuesday, April 5, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Dated: March 16, 2011.
Nathaniel J. Davis, Sr.,
Deputy Secretary.

[FR Doc. 2011-6787 Filed 3-22-11; 8:45 am]

BILLING CODE 6717-01-P